OFFICE OF MANAGEMENT AND BUDGET

Draft 2010 Report to Congress on the Benefits and Costs of Federal Regulations

AGENCY: Office of Management and Budget, Executive Office of the President.

ACTION: Notice of availability and request for comments.

SUMMARY: The Office of Management and Budget (OMB) requests comments on its Draft 2010 Report to Congress on the Benefits and Costs of Federal Regulations, available at: http://www.whitehouse.gov/omb/inforeg_regpol_reports_congress/. The Draft Report is divided into four chapters. Chapter I examines the benefits and costs of major Federal regulations issued in fiscal year 2009 and summarizes the benefits and costs of major regulations issued between October 1999 and September 2009. It also discusses regulatory impacts on State, local, and Tribal governments, small business, wages, and economic growth. Chapter II offers recommendations for regulatory reform. Chapter III provides an update on implementation of the Information Quality Act. Chapter IV summarizes agency compliance with the Unfunded Mandates Reform Act.

In this draft Report, OMB offers the following recommendations:

1. OMB identifies several measures designed to meet analytical challenges, principally involving increased transparency.

2. OMB offers a brief discussion of disclosure as a regulatory tool.

3. OMB recommends consideration of certain low-cost approaches to the problem of childhood obesity.

4. OMB draws on principles of open government to invite public suggestions about improvements in existing regulations, with particular reference to economic growth.

These recommendations build on those of the 2009 Report, in which OMB emphasized the importance of open government and in particular of obtaining access to “dispersed knowledge” about how to improve regulation. To promote such engagement, OMB requests suggestions about regulatory changes that might serve to promote economic growth, with particular reference to increasing employment, innovation, and competitiveness. OMB is especially interested in identifying both new initiatives and current regulations that might be modified, expanded, or repealed in order to promote those goals. Consistent with Executive Order 12866, OMB welcomes suggestions for regulatory reforms that have significant net benefits, that might increase net exports, and that might promote growth, innovation, and competitiveness for small business, perhaps through increasing flexibility. OMB requests that nominations be submitted electronically to OMB within 60 days from the date of notice publication in the Federal Register through http://www.regulations.gov.

DATES: To ensure consideration of comments as OMB prepares this Draft Report for submission to Congress, comments must be in writing and received by 60 days after publication.

ADDRESSES: Submit comments by one of the following methods:

• http://www.regulations.gov: Direct comments to Docket ID OMB-2010-0008.

• Fax: (202) 395-7285.

• Mail: Office of Information and Regulatory Affairs, Office of Management and Budget, Attn: Darcel D. Gayle, NEOB, Room 10202, 725 17th Street, NW., Washington, DC 20503. We are still experiencing delays in the regular mail, including first class and express mail. To ensure that your comments are received, we recommend that comments on this draft report be electronically submitted.

All comments and recommendations submitted in response to this notice will be made available to the public, including by posting them on OMB's Web site. For this reason, please do not include in your comments information of a confidential nature, such as sensitive personal information or proprietary information. The http://www.regulations.gov Web site is an “anonymous access” system, which means OMB will not know your identity or contact information unless you provide it in the body of your comment.

FOR FURTHER INFORMATION CONTACT: Darcel D. Gayle, Office of Information and Regulatory Affairs, Office of Management and Budget, NEOB, Room 10202, 725 17th Street, NW., Washington, DC 20503. Telephone: (202) 395-3741.

SUPPLEMENTARY INFORMATION: Congress directed the Office of Management and Budget (OMB) to prepare an annual Report to Congress on the Costs and Benefits of Federal Regulations. Specifically, Section 624 of the FY 2001 Treasury and General Government Appropriations Act, also known as the “Regulatory Right-to-Know Act,” (the Act) requires OMB to submit a report on the costs and benefits of Federal regulations together with recommendation for reform. The Act states that the report should contain estimates of the costs and benefits of regulations in the aggregate, by agency and agency program, and by major rule, as well as an analysis of impacts of Federal regulation on State, local, and Tribal governments, small businesses, wages, and economic growth. The Act also states that the report should be subject to notice and comment and peer review.

Cass R. Sunstein,
Administrator, Office of Information and Regulatory Affairs.

[FR Doc. 2010-9888 Filed 4-28-10; 8:45 am]

BILLING CODE P